DEPARTMENT OF ENERGY

Federal Energy Regulatory Commission

[Docket No. RP00-70-001]

Algonquin Gas Transmission Company; Notice of Negotiated Rate Filing

July 16, 2003.

Take notice that on July 8, 2003, Algonquin Gas Transmission Company (Algonquin) tendered for filing as part of its FERC Gas Tariff, Fourth Revised Volume No. 1, the following tariff sheets proposed to be effective October 1, 2003:

First Revised Sheet No. 21B

Sheet Nos. 42-49

Original Sheet No. 50

Original Sheet No. 51

Original Sheet No. 52

Original Sheet No. 53

Sheet Nos. 54-88

Algonquin states that the purpose of this filing is to implement four negotiated rate agreements resulting from its open season and reverse open season (together, G System Open Season) for capacity on Algonquin's G System in southeastern Massachusetts. These tariff sheets reflect Algonquin's negotiated rate transactions with (00)New England Gas Company—Fall River; (ii) New England Gas Company—Rhode Island; (iii) Colonial Gas Company d/b/a Keyspan Energy Delivery New England; and (iv) Calpine Energy Services LP (“Calpine Energy”). Algonquin states that it is also filing a copy of the Capacity Turnback Agreement among Algonquin and Calpine Energy, Dighton Power Associates Limited Partnership, and Tiverton Power Associates Limited Partnership that resulted from the G System reverse open season.

Algonquin requests that the Commission accept this filing by August 8, 2003. In addition, Algonquin requests that the Commission grant waiver of the notice requirement in Section 154.207 of the Commission's regulations, 18 CFR 154.207, and any other waivers of the Commission's regulations to the extent necessary to permit the tariff sheets and the agreements to be made effective as proposed.

Algonquin states that copies of the filing were mailed to all affected customers of Algonquin and interested state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document.

For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 21, 2003.

Magalie R. Salas,
Secretary.

[FR Doc. 03-18665 Filed 7-21-03; 8:45 am]

BILLING CODE 6717-01-P